DEPARTMENT OF LABOR

Occupational Safety and Health Administration

Advisory Committee on Construction Safety and Health; Notice of Open Meeting

AGENCY: Occupational Safety and Health Administration (OSHA), Labor.

ACTION: Notice of a meeting of the Advisory Committee on Construction Safety and Health (ACCSH).

SUMMARY: OSHA is notifying the public that the Advisory Committee on Construction Safety and Health (ACCSH) will meet December 6, 2001, in Washington, DC. This meeting is open to the public.

DATES, TIMES, LOCATION: ACCSH will meet from 8 a.m. to 5 p.m., Thursday, December 6, at the Marriott Hotel, 1331 Pennsylvania Ave., NW., Washington, DC. ACCSH work groups will meet December 4-5 at the Frances Perkins Building, U.S. Department of Labor, 200 Constitution Ave., NW., Washington, DC. For further information on meetings of ACCSH work groups, please refer to the OSHA Web site at http:/www.osha.gov or contact Jim Boom at OSHA's Directorate of Construction, telephone (202) 693-1839.

FOR FURTHER INFORMATION CONTACT: Veneta Chatmon, OSHA Office of Public Affairs, Room N-3647, 200 Constitution Ave., NW, Washington, DC 20210, telephone (202) 693-1999.

SUPPLEMENTARY INFORMATION: ACCSH will meet December 6, 2001, in Washington, DC. This meeting is open to the public. The agenda for this meeting includes:

• Remarks by the Assistant Secretary for the Occupational Safety and Health Administration, John L. Henshaw

• Special Presentation—National Institute for Occupational Safety and Health

• ACCSH Work Group updates

• OSHA Training Institute—Distance Learning

• Tower Erection—Update on North Carolina's Initiatives

• World Trade Center—Update

• Directorate of Construction report

An official record of the meeting will be available for public inspection at the OSHA Docket Office, Room N-2625, at the address above, telephone (202)-693-2350. All ACCSH meetings and those of its work groups are open to the public. Individuals needing special accommodation should contact Veneta Chatmon no later than November 30, 2001, at the above address.

Interested parties may submit written data, views or comments, preferably with 20 copies, to Veneta Chatmon, at the address listed above. OSHA will provide submissions received prior to the meeting to ACCSH members and will include each submission in the record of the meeting.

Attendees may also request to make an oral presentation by notifying Veneta Chatmon before the meeting. The request must state the amount of time desired, the interest represented by the presenter (e.g., the names of the business, trade association, government Agency) if any, and a brief outline of the presentation. The Chair of ACCSH may grant the request at his discretion and as time permits.

The following ACCSH works groups will meet in the Francis Perkins Building:

• Supart N—Cranes—8 a.m. to 5 p.m., Tuesday, December 4 in room N-4437 A&B and 8 a.m. to 5 p.m., Wednesday, December 5 in room S-4215 A&B.

For further information on meetings of ACCSH works groups, please refer to the OSHA Web site at http://www.osha.gov or contact Jim Boom at the telephone number listed above.

Authority: John L. Henshaw, Assistant Secretary of Labor for Occupational Safety and Health, directed the preparation of this notice under the authority granted by section 7 of the Occupational Safety and Health Act of 1970 (29 U.S.C. 656) section 107 of the Contract Work Hours and Safety Standards Act (Construction Safety Act) (40 U.S.C. 333), and Secretary of Labor's Order No. 6-96 (62 FR 181).

Signed at Washington, DC on November 15, 2001.
John L. Henshaw,
Assistant Secretary of Labor.

[FR Doc. 01-29180 Filed 11-21-01; 8:45 am]

BILLING CODE 4510-26-M